ENVIRONMENTAL PROTECTION AGENCY

[FRL-7603-6]

Intent To Grant Exclusive License

AGENCY: Environmental Protection Agency (EPA).

ACTION: Notice of intent to grant an exclusive license.

SUMMARY: Pursuant to 35 U.S.C. 207 and 37 CFR part 404, EPA hereby gives notice of its intent to grant an exclusive, royalty-bearing, revocable license to practice the invention described and claimed in the patent application listed below, all U.S. patents issuing therefrom, and all reexamined and reissued patents granted in the United States in connection with such patent application to Analytical Engineering, Incorporated of Columbus, Indiana. The patent application is:

U.S. Patent Application No. 10/306,044, entitled “Exhaust Aftertreatment System and Method for an Internal Combustion Engine,” filed November 27, 2002 and claiming priority from the first filed provisional application, filed November 29, 2001.

Normally, 37 CFR 404.7(a)(1) requires an agency to issue both a notice of availability of an invention for exclusive licensing, as well as a notice of intent to grant the exclusive license. However, EPA has authority under the same 37 CFR 404.7(a)(1) to proceed without a notice of availability when expeditious transfer of rights will best serve the interest of the Federal government and the public. Under that authority, EPA has decided not to issue a notice of availability of this invention for licensing. Analytical Engineering, Incorporated is co-owner by assignment from its employee inventors of an undivided interest in the invention. It is unlikely that any other party would be willing to take a license from EPA on a patent application or patent encumbered by co-ownership. Accordingly, EPA is relying on its authority under 37 CFR 404.7(a)(1) to proceed without such notice of availability.

The proposed exclusive license will contain appropriate terms, limitations and conditions in accordance with the limitations and conditions of 35 U.S.C. 209 and 37 CFR 404.5 and 404.7 of the U.S. Government patent licensing regulations.

EPA will negotiate the final terms and conditions and execute the exclusive license, unless within 30 days from the date of this Notice, EPA receives, at the address below, written objections to the grant, together with supporting documentation. The documentation from objecting parties having an interest in practicing the above patent application should include an application for an exclusive or nonexclusive license with the information set forth in 37 CFR 404.8. The EPA Patent Counsel and other EPA officials will review all written responses and then make recommendations on a final decision to the Director of the National Vehicle Fuel Emissions Laboratory, who has been delegated the authority to issue patent licenses under EPA Delegation 1-55.

DATES: Comments to this notice must be received by EPA at the address listed below by January 29, 2004.

FOR FURTHER INFORMATION CONTACT: Laura Scalise, Patent Attorney, Office of General Counsel (Mail Code 2377A), U.S. Environmental Protection Agency, Washington, DC 20460, telephone (202) 564-8303.

Dated: December 10, 2003.
Marla E. Diamond,
Associate General Counsel.

[FR Doc. 03-32058 Filed 12-29-03; 8:45 am]

BILLING CODE 6560-50-P